NUCLEAR REGULATORY COMMISSION

[Docket No. 70-27]

Environmental Assessment and Finding of No Significant Impact of License Amendment for BWX Technologies, Inc., and Notice of Opportunity To Request a Hearing

AGENCY: Nuclear Regulatory Commission.

ACTION: Amendment of BWX Technologies, Inc., Materials License SNM-42 to authorize the installation and use of the Metal Dissolution Facility.

The U.S. Nuclear Regulatory Commission is considering the amendment of Special Nuclear Material License SNM-42 to authorize the installation and use of the Metal Dissolution Facility at the BWX Technologies, Inc., facility located in Lynchburg, VA, and has prepared an Environmental Assessment in support of this action.

Environmental Assessment

1.0 Introduction

1.1 Background

The Nuclear Regulatory Commission (NRC) staff has received a license request, dated August 7, 2001, and a revision to that submittal dated December 18, 2001. The request is to amend SNM-42 to authorize the installation and use of the Metal Dissolution Facility (MDF) for the dissolution of high enriched uranium (HEU) metal to support BWXT's downblending operations. The purpose of this document is to assess the environmental consequences of the proposed license amendment.

The BWXT facility in Lynchburg, VA, is authorized under SNM-42 to possess nuclear materials for the fabrication and assembly of nuclear fuel components. The facility supports the U.S. naval reactor program, fabricates research and university reactor components, and manufactures compact reactor fuel elements. The facility also performs recovery of scrap uranium. Research and development activities related to the fabrication of nuclear fuel components are also conducted.

1.2 Review Scope

This environmental assessment (EA) serves to present information and analysis for determining whether to issue a Finding of No Significant Impact (FONSI) or to prepare an Environmental Impact Statement (EIS). Should the NRC issue a FONSI, no EIS would be prepared and the license amendment would be granted.

1.3 Proposed Action

The proposed action is to amend NRC Materials License SNM-42 to authorize the installation and use of the MDF for the dissolution of HEU metal to support BWXT's downblending operations. The MDF will be used to receive, store, dissolve HEU metal ranging from 20 to 97 percent uranium-235 (U-235). The MDF will support other processing areas and will be located within the Bay 15A Material Access Area (MAA). The building is already in place, so there will be no new construction on the BWXT site. The building is approximately 37 feet long, 20 feet wide, and 18 feet high.

The purpose of the MDF is to produce a homogeneous uranyl nitrate solution with a uranium concentration of approximately 400 grams/liter (g/l). The first step in the MDF is the weighing out of an appropriate amount of HEU in a charging basket in a ventilated glove box. The charging basket is then transferred via a lift to a dissolver digester. Measured quantities of nitric acid and deionized water are added in the dissolver to dissolve the HEU. The resulting mixture is then heated to approximately 180 degrees Fahrenheit and circulated until a homogeneous uranyl nitrate solution is made. This homogeneous uranyl nitrate solution is then pumped through filters into a process monitoring column where the solution is circulated, weighed, and sampled for U-235 concentration. The solution is then transferred via a manually activated pump to one of five storage columns where it is retained until required for blending with depleted or low enriched uranium.

1.4 Purpose and Need for Proposed Action

The proposed action would allow the licensee to install and operate the MDF. The operation of the MDF is needed to downblend HEU in support of HEU disposition for the Department of Energy. The MDF is expected to operate for many years.

1.5 Alternatives

The alternatives available to the NRC are:

1. Approve the license amendment request as submitted;

2. Approve the license amendment with restrictions; or

3. Deny the amendment request.

2.0 Affected Environment

The affected environment for Alternatives 1 and 2 is the BWXT site. A full description of the site and its characteristics is given in the 1995 Environmental Assessment (EA) for the Renewal of the NRC license for BWXT. The BWXT facility is located on a 525 acre (2 km\2\) site in the northeastern corner of Campbell County, approximately 5 miles (8 km) east of Lynchburg, Virginia. This site is located in a generally rural area, consisting primarily of rolling hills with gentle slopes, farm land, and woodlands.

3.0 Effluent Releases and Monitoring

A full description of the effluent monitoring program at the site is provided in the 1995 Environmental Assessment for the Renewal of the NRC license for BWXT. Monitoring programs at the BWXT facility comprise effluent monitoring of air and water and environmental monitoring of various media (air, soil, vegetation, and groundwater). This program provides a basis for evaluation of public health and safety impacts, for establishing compliance with environmental regulations, and for development of mitigation measures if necessary. The monitoring program is not expected to change as a result of the proposed action. The NRC has reviewed the location of the environmental monitoring program sampling points, the frequency of sample collection, and the trends of the sampling program results in conjunction with the environmental pathway and exposure analysis and concluded that the monitoring program provides adequate protection of public health and safety.

Gaseous, liquid, and solid wastes are produced at the BWXT site. These wastes are categorized as low-level radioactive, nonradioactive, hazardous, or mixed wastes. A description of each of these waste categories, control strategies, and an estimate of release quantities is provided in the 1995 Environmental Assessment for the Renewal of the NRC license for BWXT.

The amendment request is expected to have no impact on the liquid and solid wastes released from the site. Routine liquid radiological and chemical releases from the MDF are not planned.

A new exhaust scrubber will be used to maintain airborne releases from the MDF within NRC limits. The dissolvers will be vented to a scrubber that will provide removal of uranium and NOX from the exhaust gases using a two-stage oxidation/absorption system. Local warning indicators and controls will be provided in the U-Metal Dissolution area for monitoring and control of the scrubber operation. BWXT has conservatively estimated that the offsite exposure from operation of the new exhaust scrubber will be less than 0.005 millirem per year. The NRC staff has reviewed the exposure estimate and has determined that it is acceptable.

4.0 Environmental Impacts of Proposed Action and Alternatives

4.1 Occupational and Public Health

Use of the MDF will not include any change in the type or form of special nuclear material (SNM) or any new or different operations from those currently authorized under BWXT's license. However, the amounts of HEU metal that will be processed will be higher but within BWXT's license limits. A new exhaust scrubber will be used to maintain airborne releases within NRC limits. The impacts of normal operation of the site were evaluated in 1995 Environmental Assessment (EA) for the Renewal of the NRC license for BWXT. The total effective dose equivalent (TEDE) for members of the public from the normal operations at the BWXT site was calculated to be 0.024 mrem per year. BWXT has conservatively estimated that the offsite exposure from operation of the new exhaust scrubber will be less than 0.005 millirem per year. The increase in offsite exposure due to operation of the MDF is considered insignificant because the new predicted TEDE (0.029 mrem/yr) remains well below the 10 CFR 20 limit of 100 mrem for a member of the public.

Three employees will be working in the MDF. BWXT has conservatively estimated that the three employees will increase the sites cumulative exposure by about 6.0 person-rem based on the highest individual exposure in 2000 of 2.0 person-rem. Comparing this to the sites 2000 cumulative exposure of 204.9 person-rem, results in an insignificant increase of only 2.9 percent.

4.2 Water Resources and Biota

No liquid process effluents will be released by operation of the facility and there will be no withdrawals from waterways to operate this process. Thus there will be no impacts to water resources (including groundwater) or biota from the operation of the MDF, under normal conditions.

4.3 Geology and Seismology

The operation of the MDF will have no impact on geology or seismology. The process will be performed in an existing facility on the site, therefore there will be no new construction as part of this amendment application. For example, no deep well injection of wastewater would occur that could modify seismic activity or alter geology.

4.4 Soils

Soils will not be impacted as a result of the operation of the MDF. There will be no physical disturbance of soils, and there will not be any releases of process materials to soils as a result of normal operations.

4.5 Air Quality

The NRC staff has determined that the proposed amendment will have minimal impact on air quality. As discussed above, a scrubber system will be used to maintain radiological airborne releases within NRC limits. The scrubber system will also be permitted by the State of Virginia to control non-radiological releases.

4.6 Demography, Cultural and Historic Resources

The NRC staff has determined that the proposed amendment will not impact demography, or cultural or historic resources. A full description of these parameters is given in the 1995 Environmental Assessment for Renewal.

4.7 Impacts Due to Accident Conditions

In accordance with 10 CFR 70.61, BWXT is required to limit the risk of each credible high or intermediate consequence event through the application of engineered and/or administrative controls. Also nuclear criticality events must be limited through assurance that all processes are maintained at subcritical levels. The analyses for these events were provided by BWXT in the amendment request submittals dated August 7, and December 18, 2001.

The impacts due to accident conditions will be evaluated and discussed in the Safety Evaluation Report which will be prepared by the NRC in conjunction with this document. Therefore, impacts due to accident conditions were not evaluated in this document.

4.8 Alternatives

The action that the NRC is considering is approval of an amendment request to Materials license SNM-42 issued pursuant to 10 CFR Part 70. The proposed action is to amend NRC Materials License SNM-42 to authorize the use of the MDF. The alternatives available to the NRC are:

1. Approve the license amendment request as submitted;

2. Approve the license amendment request with restrictions; or

3. Deny the amendment request.

Based on its review, the NRC staff has concluded that the environmental impacts associated with the proposed action are insignificant. Thus, the staff considers that Alternative 1 is the appropriate alternative for selection.

5.0 Agencies and Persons Contacted

The NRC contacted the Director of Radiological Health at the Virginia Department of Health (VDH) January 2, 2002 concerning this request. The Director reviewed the draft document and concluded that the Environmental Assessment does not contain any issues that may be objectionable to VDH.

Because the proposed action is entirely within existing facilities, the NRC has concluded that there is no potential to affect endangered species or historic resources, and therefore consultation with the State Historic Preservation Society and the U.S. Fish and Wildlife Service was not necessary.

6.0 References

U.S. Nuclear Regulatory Commission (NRC), August 1995, “Environmental Assessment for Renewal of Special Nuclear Material License SNM-42.”

BWX Technologies, August 7, 2001, Letter from Arne Olson to Director of Office of Nuclear Materials Safety and Safeguards, Amendment of License SNM-42.

7.0 Conclusions

Based on an evaluation of the environmental impacts of the amendment request, the NRC has determined that the proper action is to issue a FONSI in the Federal Register. The NRC staff considered the environmental consequences of amending NRC Materials License SNM-42 to authorize the operation of the MDF and have determined that the approval of the request will have no significant effect on public health and safety or the environment.

Finding of No Significant Impact

The Commission has prepared the above Environmental Assessment related to the amendment of Special Nuclear Material License SNM-42. On the basis of the assessment, the Commission has concluded that environmental impacts associated with the proposed action would not be significant and do not warrant the preparation of an Environmental Impact Statement. Accordingly, it has been determined that a Finding of No Significant Impact is appropriate.

In accordance with 10 CFR 2.790 of the NRC's “Rules of Practice,” the Environmental Assessment and the documents related to this proposed action will be available electronically for public inspection from the Publicly Available Records (PARS) component of NRC's document system (ADAMS). ADAMS is accessible from the NRC Web site at http://www.nrc.gov/NRC/ADAMS/index.html (the Public Electronic Reading Room).

Opportunity for a Hearing

Based on the EA and accompanying safety evaluation, NRC is preparing to amend License SNM-42. The NRC hereby provides that this is a proceeding on an application for amendment of a license falling within the scope of Subpart L, “Informal Hearing Procedures for Adjudication in Materials Licensing Proceedings,” of NRC's rules and practice for domestic licensing proceedings in 10 CFR part 2. Pursuant to Section 2.1205(a), any person whose interest may be affected by this proceeding may file a request for a hearing in accordance with Section 2.1205(d). A request for a hearing must be filed within thirty (30) days of the date of publication of this Federal Register notice.

A request for hearing or petition for leave to intervene must be filed with the Secretary of the Commission, U.S. Nuclear Regulatory Commission either:

1. By delivery to the Rulemakings and Adjudications Staff of the Secretary at One White Flint North, 11555 Rockville Pike, Rockville, MD 20852-2738; or

2. By mail or telegram addressed to the Secretary, U.S. Nuclear Regulatory Commission, Washington, DC 20555-0001. Attention: Rulemakings and Adjudications Staff.

In addition to meeting other applicable requirements of 10 CFR part 2 of the NRC's regulations, a request for a hearing filed by a person other than an applicant must describe in detail:

1. The interest of the requester in the proceeding;

2. How that interest may be affected by the results of the proceeding, including the reasons why the requestor should be permitted a hearing, with particular reference to the factors set out in Section 2.1205(h).

3. The requester's areas of concern about the licensing activity that is the subject matter of the proceeding; and

4. The circumstances establishing that the request for a hearing is timely in accordance with Section 2.1205(d).

In accordance with 10 CFR Section 2.1205(f), each request for a hearing must also be served, by delivering it personally or by mail to:

1. The applicant, BWX Technologies, Inc., P.O. Box 785, Lynchburg, VA 24505-0785; and

2. The NRC staff, by delivering to the Executive Director for Operations, One White Flint North, 11555 Rockville Pike, Rockville, MD 20852, or by mail, addressed to the Executive Director for Operations, U.S. Nuclear Regulatory Commission, Washington, DC 20555.

The NRC contact for this licensing action is Edwin Flack, who may be contacted at (301) 415-8115 or by e-mail at edf@nrc.gov for more information about the licensing action.

Dated at Rockville, Maryland, this 9th day of January 2002.
For the Nuclear Regulatory Commission.
Lidia Roché,
Acting Chief, Fuel Cycle Licensing Branch, Division of Fuel Cycle Safety and Safeguards, Office of Nuclear Material Safety and Safeguards.

[FR Doc. 02-1089 Filed 1-15-02; 8:45 am]

BILLING CODE 7590-01-P